SMALL BUSINESS ADMINISTRATION

[Disaster Declaration #15088 and #15089]

CALIFORNIA Disaster Number CA-00264

AGENCY: U.S. Small Business Administration.

ACTION: Amendment 1.

SUMMARY: This is an amendment of the Presidential declaration of a major disaster for Public Assistance Only for the State of CALIFORNIA (FEMA-4305-DR), dated 03/16/2017.

Incident: Severe Winter Storms, Flooding, and Mudslides.

Incident Period: 01/18/2017 through 01/23/2017.

Effective Date: 05/03/2017.

Physical Loan Application Deadline Date: 05/15/2017.

Economic Injury (EIDL) Loan Application Deadline Date: 12/18/2017.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for Private Non-Profit organizations in the State of CALIFORNIA, dated 03/16/2017, is hereby amended to include the following areas as adversely affected by the disaster.

Primary Counties: Alameda, Calaveras, Contra Costa Inyo, Modoc, Mono.

All other information in the original declaration remains unchanged.

(Catalog of Federal Domestic Assistance Number 59008)

Rafaela Monchek,
Acting Associate Administrator for Disaster Assistance.

[FR Doc. 2017-09347 Filed 5-8-17; 8:45 am]

BILLING CODE 8025-01-P